SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before July 30, 2001.

ADDRESSES: Send all comments regarding whether this information collection is necessary for the proper performance of the function of the agency, whether the burden estimate is accurate, and if there are ways to minimize the estimated burden and enhance the quality of the collection, to Charles Mezger, Director, Office of SBIC Examinations, Small Business Administration, 409 3rd Street, S.W., Suite 6300, Washington D.C. 20416.

FOR FURTHER INFORMATION CONTACT: Charles Mezger, Director, (202) 205-7172 or Curtis B. Rich, Management Analyst, (202) 205-7030.

SUPPLEMENTARY INFORMATION: Title: Disclosure Statement.

Form No: 856.

Description of Respondents: Small business administration participating lenders.

Annual Responses: 200.

Annual Burden: 200.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, SW., Suite 8300, Washington D.C. 20416.

FOR FURTHER INFORMATION CONTACT: Sandra Johnston, Program Analyst, (202) 205-7528 or Curtis B. Rich, Management Analyst, (202) 205-7030.

SUPPLEMENTARY INFORMATION: Title: Applications for Business Loans.

Form No's: 4, 4-L, 4SCH. A, 4-Short, 4-I.

Description of Respondents: Applicants applying for a SBA Business Loan.

Annual Responses: 60,000.

Annual Burden: 1,187,000.

SUPPLEMENTARY INFORMATION: Title: Request from Borrowers (Reports, Records, and Financial Statements).

Form No: 770.

Description of Respondents: Recipients of SBA Loans.

Annual Responses: 146,800.

Annual Burden: 231,800.

SUPPLEMENTARY INFORMATION: Title: Application for Pool of Guaranteed Interest Certificates.

Form No: 1454.

Description of Respondents: SBA Loan Poll Assemblers.

Annual Responses: 450.

Annual Burden: 1,350.

Jacqueline White,
Chief, Administrative Information Branch.

[FR Doc. 01-13567 Filed 5-30-01; 8:45 am]

BILLING CODE 8025-01-P